DEPARTMENT OF HOMELAND SECURITY

Coast Guard

[Docket Number USCG-2018-0193]

Polar Icebreaker Program; Preparation of Environmental Impact Statement

AGENCY: Coast Guard, DHS.

ACTION: Notice of Availability and request for comments.

SUMMARY: The U.S. Coast Guard, as lead agency, announces the availability of a draft Programmatic Environmental Impact Statement (EIS) in accordance with the National Environmental Policy Act (NEPA) for the Polar Icebreaker Program's design and build of up to six polar icebreakers. The U.S. Coast Guard requests public comments on the draft EIS.

DATES: Comments must be submitted to the online docket via http://www.regulations.gov on or before September 20, 2018.

ADDRESSES: You may submit comments identified by docket number USCG-2018-0193 using the Federal portal at http://www.regulations.gov. See the “Public Participation and Request for Comments” portion of the SUPPLEMENTARY INFORMATION section for further instructions on submitting comments.

FOR FURTHER INFORMATION CONTACT: If you have questions about this notice of intent, email Mr. Ahmed Majumder, Deputy Program Manager, Polar Icebreaker Program, U.S. Coast Guard; email PIBEnvironment@uscg.mil.

SUPPLEMENTARY INFORMATION:

I. Table of Abbreviations

CFR Code of Federal Regulations

CGC Coast Guard Cutter

EIS Environmental Impact Statement

FR Federal Register

NEPA National Environmental Policy Act

PIBs Polar Icebreakers

U.S.C. United States Code

II. Background and Purpose

The U.S. Coast Guard's current fleet of polar icebreakers (PIBs) consists of two heavy icebreakers, Coast Guard Cutter (CGC) POLAR STAR and CGC POLAR SEA, and one medium icebreaker, CGC HEALY. The U.S. Coast Guard's heavy icebreakers have both exceeded their designed 30 year service life. CGC POLAR STAR was commissioned in 1976 and CGC POLAR SEA in 1978. CGC POLAR STAR began reactivation in 2010 and completed a service life extension in 2013 to allow CGC POLAR STAR to operate for an additional seven to ten years. CGC POLAR SEA has remained out of service since 2010 and is not expected to be reactivated. The current PIB program acquisition strategy is approved to construct up to three heavy PIBs and may (at a future date) potentially expand to include up to three medium icebreakers, with planned service design lives of 30 years each. The first of these new PIBs is expected to delivered in 2023. Because the first new PIB would not be operational in the Polar Regions until at least 2023, new information may become available after the completion of this EIS. In that case, supplemental NEPA documentation may, as appropriate, be prepared in support of individual proposed actions. Examples of new information may include, but are not limited to, changes to a species listing status or any other applicable laws and directives, and information regarding mission, training, homeporting, maintenance, and eventual decommissioning of the new PIBs.

A new PIB would be designed to carry out the U.S. Coast Guard's primary missions supported by the current polar icebreaker fleet. Expected missions include Ice Operations, Defense Readiness, Aids to Navigation, Living Marine Resources, Marine Safety, Marine Environmental Protection, Other Law Enforcement, Ports, Waterways, and Coastal Security, and Search and Rescue.

In executing its various missions, the U.S. Coast Guard protects the public, the environment, and U.S. economic and security interests in any maritime region, including international waters and the Nation's coasts, ports, and inland waterways, as required to support national security. Legislation and executive orders assign the U.S. Coast Guard a wide range of responsibilities applicable to Polar Regions. The U.S. Coast Guard derives its authority for the use of icebreaking from several statutes governing execution of its missions. These include 14 U.S.C. 81 (Coast Guard establishment, maintenance, and operation of aids to navigation), 14 U.S.C. 88 (Coast Guard saving of life and property), 14 U.S.C. 89 (Coast Guard law enforcement), 14 U.S.C. 90 (Arctic maritime transportation), 14 U.S.C. 91 (controlling anchorage and movement of vessels), 14 U.S.C. 94 (conduct oceanographic research), and 14 U.S.C. 141 (cooperation with agencies, States, territories, and others). In addition, Executive Order 7521 (Use of Vessels for Icebreaking in Channels and Harbors), 1 FR 2184, Dec. 24, 1936, directs the U.S. Coast Guard to assist in keeping channels and harbors open to navigation by means of icebreaking operations.

The U.S. Coast Guard proposes to conduct polar icebreaker operations and training exercises to meet Coast Guard mission responsibilities in the U.S. Arctic and Antarctic Regions of operation, in addition to vessel performance testing post-dry dock in the Pacific Northwest near the current polar icebreaker homeport of Seattle, Washington. The exact location for future homeporting has not been determined, but the current fleet of polar icebreakers is homeported in Seattle, Washington.

Polar Regions are becoming increasingly important to U.S. national interests. The changing environment in these regions could lead to a rise in human activity and increased commercial ship, cruise ship, and naval surface ship operations, as well as increased exploration for oil and other resources, particularly in the Arctic. One of the U.S. Coast Guard's highest priorities is safety of life at sea. This entails the Artic responsibilities described above as well as assisting with Antarctica logistics at McMurdo Station. Long-term projected increases in U.S. Coast Guard mission demand in the Polar Regions would require additional support from PIBs. A lack of infrastructure, polar environmental conditions, and long distances between operating areas and support bases all influence the U.S. Coast Guard's ability to provide comparable service and presence in Polar Regions as compared to that provided in other non-polar areas of operation with existing Coast Guard assets.

This EIS will analyze the potential impacts of up to six new PIBs, as this is the maximum number anticipated to be operational in the Polar Regions under the current PIB program acquisition strategy; A lesser number of icebreakers is expected to result in a similar or reduced impact than what will be discussed and evaluated in this EIS. Potential environmental stressors include acoustic (underwater acoustic transmissions, vessel noise, icebreaking noise, aircraft noise, and gunnery noise), and physical (vessel movement, aircraft or in-air device movement, in-water device movement, icebreaking, and marine expended materials).

III. Scoping Process

The U.S. Coast Guard conducted scoping in accordance with Council on Environmental Quality (CEQ) regulations implementing the NEPA (40 CFR 1500 et seq.) through public comment and public meetings. A summary of the scoping process can be found in the draft EIS.

IV. Public Participation and Request for Comments

We encourage you to submit comments (or related material) on the draft Programmatic Environmental Impact Statement. We will consider all submissions and may adjust our final action based on your comments. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that website's instructions. Additionally, if you go to the online docket and sign up for email alerts, you will be notified when comments are posted or a final EIS is published.

We accept anonymous comments. All comments received will be posted without change to http://www.regulations.gov and will include any personal information you have provided. For more about privacy and the docket, you may review a Privacy Act notice regarding the Federal Docket Management System in the March 24, 2005, issue of the Federal Register (70 FR 15086).

This notice is issued under authority of 5 U.S.C. 552(a).

Dated: June 31, 2018.
Ahmed Majumder,
U.S. Coast Guard, Program Manager, Polar Icebreaker Program.

[FR Doc. 2018-16760 Filed 8-3-18; 8:45 am]

BILLING CODE 9110-04-P